NATIONAL AERONAUTICS AND SPACE ADMINISTRATION

[Notice (10-091)]

Notice of Intent To Grant Partially Exclusive License

AGENCY: National Aeronautics and Space Administration.

ACTION: Notice of Intent To Grant Exclusive License.

SUMMARY: This notice is issued in accordance with 35 U.S.C. 209(c)(1) and 37 CFR 404.7(a)(1)(i). NASA hereby gives notice of its intent to grant a partially exclusive license in the United States to practice the inventions described and claimed in U.S. Patent Application No. 09/056,363 and U.S. Patent No. 6,730,498 entitled “Production of Functional Proteins: Balance of Shear Stress and Gravity” to Regenetech, Inc., having its principal place of business in Houston, Texas. The fields of use may be limited to production of biomolecules and growth factors for use in topical applications for cosmetics, topical treatment of burns, scars, stretch marks, acne and joint pain. The patent rights in this invention have been assigned to the United States of America as represented by the Administrator of the National Aeronautics and Space Administration. The prospective partially exclusive license will comply with the terms and conditions of 35 U.S.C. 209 and 37 CFR 404.7.

DATES: The prospective partially exclusive license may be granted unless within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license. Objections submitted in response to this notice will not be made available to the public for inspection and, to the extent permitted by law, will not be released under the Freedom of Information Act, 5 U.S.C. 552.

ADDRESSES: Objections relating to the prospective license may be submitted to Patent Counsel, Office of Chief Counsel, NASA Johnson Space Center, Mail Code AL, 2101 NASA Parkway, Houston, Texas 77058. (281) 244-7148; Fax (281) 483-6939.

FOR FURTHER INFORMATION CONTACT: Theodore U. Ro, Intellectual Property Attorney, Office of Chief Counsel, NASA Johnson Space Center, Mail Code AL, 2101 NASA Parkway, Houston, Texas 77058. (281) 244-7148; Fax (281) 483-6939. Information about other NASA inventions available for licensing can be found online at http://technology.nasa.gov/.

Dated: August 17, 2010.
Richard W. Sherman,
Deputy General Counsel.

[FR Doc. 2010-20822 Filed 8-20-10; 8:45 am]

BILLING CODE 7510-13-P